ENVIRONMENTAL PROTECTION AGENCY

40 CFR Parts 52 and 81

[EPA-R05-OAR-2013-0791; FRL-9914-23-Region-5]

Approval and Promulgation of Air Quality Implementation Plans; Ohio; Redesignation of the Bellefontaine Area to Attainment of the 2008 Lead Standard

AGENCY: Environmental Protection Agency (EPA).

ACTION: Proposed rule.

SUMMARY: On October 29, 2013, the Ohio Environmental Protection Agency (OEPA) submitted a request for the Environmental Protection Agency (EPA) to redesignate the Bellefontaine nonattainment area to attainment for the 2008 national ambient air quality standards (NAAQS) for lead. EPA is proposing to determine that the Bellefontaine area meets the requirements for redesignation and is also proposing to approve several additional related actions. EPA is proposing to approve, as revisions to the Ohio state implementation plan, the state's plan for maintaining the 2008 lead NAAQS through 2025 for the area. EPA is proposing to approve the 2010 emissions inventory for the Bellefontaine area, which meet the comprehensive emissions inventory requirement of the Act. EPA is proposing to approve these actions in accordance with the Clean Air Act and EPA's implementation regulations regarding the 2008 lead NAAQS.

DATES: Comments must be received on or before August 27, 2014.

ADDRESSES: Submit your comments, identified by Docket ID No. EPA-R05-OAR-2013-0791, by one of the following methods:

1. www.regulations.gov: Follow the on-line instructions for submitting comments.

2. Email: aburano.douglas@epa.gov.

3. Fax: (312) 408-2279.

4. Mail: Douglas Aburano, Chief, Attainment Planning and Maintenance Section, Air Programs Branch (AR-18J), U.S. Environmental Protection Agency, 77 West Jackson Boulevard, Chicago, Illinois 60604.

5. Hand Delivery: Douglas Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Sarah Arra, Environmental Scientist, Attainment Planning and Maintenance Section, Air Programs Branch (AR-18J), Environmental Protection Agency, Region 5, 77 West Jackson Boulevard, Chicago, Illinois 60604, (312) 886-9401, arra.sarah@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: July 11, 2014.
Susan Hedman,
Regional Administrator, Region 5.

[FR Doc. 2014-17610 Filed 7-25-14; 8:45 am]

BILLING CODE 6560-50-P